DEPARTMENT OF THE TREASURY

Submission for OMB Review; Comment Request

March 6, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 10, 2006 to be assured of consideration.

Internal Revenue Service (IRS)

OMB Number: 1545-XXXX.

Type of Review: New.

Title: Statement for Individuals who begin or end Bona Fide Residence in a U.S. Possession.

Form: IRS Form-8898.

Description: Form 8898 is required by new code section 937, which added by the American Jobs Creation Act of 2004. Under 937, individuals must notify the IRS when they begin or end bona fide residence in a U.S. possession. The purpose of the information collected is to prevent abusive tax avoidance.

Respondents: Individuals or households.

Estimated Total Burden Hours: 389,000 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. E6-3434 Filed 3-9-06; 8:45 am]

BILLING CODE 4830-01-P